FEDERAL COMMUNICATIONS COMMISSION

47 CFR Part 73

[DA 09-413; MB Docket No. 08-68; RM-11421]

Radio Broadcasting Services; Beatty and Goldfield, NV

AGENCY: Federal Communications Commission.

ACTION: Final rule.

SUMMARY: The Audio Division grants a Petition for Rule Making issued at the request of Keilly Miller, proposing the allotments of Channel 259A at Beatty, Nevada, and Channel 262C1 at Goldfield, Nevada, as first local FM transmission services. A staff engineering analysis indicates that Channel 259A can be allotted to Beatty consistent with the minimum distance separation requirements of the Rules with a site restriction 8.6 kilometers (5.3 miles) west located at reference coordinates 36-56-05 NL and 116-51-00 WL. Moreover, Channel 262C1 can be allotted to Goldfield consistent with the minimum distance separation requirements of the Commission's Rules (the “Rules”) with a site restriction 0.6 kilometers (0.4 miles) northeast of the community located at reference coordinates 37-42-41 NL and 117-13-56 WL.

DATES: Effective June 29, 2009.

ADDRESSES: Secretary, Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 08-68, adopted February 18, 2009, and released February 20, 2009. An Erratum, DA 09-XXX was released on May 19, 2009, changing the effective date of this final rule. The Notice of Proposed Rule Making proposed the allotment of Channel 259A at Beatty, Nevada, and Channel 262C1 at Goldfield, Nevada. See 73 FR 63131, published October 23, 2008. The full text of the Report and Order is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC, 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Nevada, is amended by adding Beatty, Channel 259A, and Goldfield, Channel 262C1.

Federal Communications Commission.
John A. Karousos,
Assistant Chief, Audio Division, Media Bureau.

[FR Doc. E9-12535 Filed 5-28-09; 8:45 am]

BILLING CODE 6712-01-P